DEPARTMENT OF TRANSPORTATION

National Highway Traffic Safety Administration

[U.S. DOT Docket No. NHTSA-2010-0023]

Reports, Forms, and Recordkeeping Requirements

AGENCY: National Highway Traffic Safety Administration (NHTSA), Department of Transportation (DOT).

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes one collection of information for which NHTSA intends to seek OMB approval.

DATES: Comments must be received on or before June 22, 2010.

ADDRESSES: Direct all written comments to U.S. Department of Transportation Dockets, 1200 New Jersey Avenue, SE., Washington, DC 20590. Docket No. NHTSA-2010-0023.

FOR FURTHER INFORMATION CONTACT: Ms. Laurie Flaherty, Program Analyst, Office of Emergency Medical Services, National Highway Traffic Safety Administration, 1200 New Jersey Avenue, SE., Washington, DC 20590, NTI-140, Room W44-322,Telephone: (202) 366-2705, or via e-mail at laurie.flaherty@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submissions of responses. In compliance with these requirements, NHTSA asks public comment on the following proposed collection of information:

Request for Information, National 9-1-1 Program

Type of Request: New information collection requirement.

OMB Clearance Number: N/A.

FORM Number: This collection of information uses no standard forms.

Requested Expiration Date of Approval: Three years from date of approval.

Summary of the Collection of Information: NHTSA is proposing to issue annual RFIs seeking comments from all sources (public, private, governmental, academic, professional, public interest groups, and other interested parties) on operational priorities for the National Program.

The National 9-1-1 Program currently provides:

Program and policy coordination across Federal agencies. Support to Public Safety Answering Points and related State and local agencies for 9-1-1 deployment and operations. NHTSA intends to use the National 9-1-1 Program to work cooperatively with public and private 9-1-1 stakeholders to establish a vision for the future of 9-1-1 services in the Nation. The RFIs will solicit comments on the priorities and strategies of the National 9-1-1 Program to accomplish its functions, goals and vision. In addition, the RFIs will obtain expressions of interest in participating as partners and will request responses to specific questions, including critical 9-1-1 issues, benefits to stakeholders, available data and methods of collection, etc. These RFIs will NOT seek comment on the 9-1-1 grant program administered by the NHTSA. The RFIs will not include requests for proposals or invitations for bids.

Description of the Need for the Information and Proposed Use of the Information: The 9-1-1 constituency is a diverse group of entities, including:

Government Agencies:

• Local, State and Federal policy, regulation, and funding agencies.

• Local and State emergency communications agencies.

• Local, State and Federal emergency response agencies.

Non-Governmental Organizations:

• Professional and industry associations.

• Standards Development Organizations.

• Citizen and special interest advocacy organizations.

• Private emergency response and recovery organizations.

• Research and academic organizations.

IT/Telecommunications Service Providers:

• “Traditional” telecommunication service providers.

• “Public Safety/emergency” service providers.

• “Other” IT/telecommunication application service providers.

• IP-network access infrastructure/service providers.

IT/Telecommunications Equipment Providers:

• Equipment and support service suppliers to “traditional” telecommunication companies.

• Equipment and support service suppliers to IT network providers.

• “Public Safety/emergency services network” equipment providers.

• Personal communication device providers.

Third Party Emergency Call Centers:

• Third party service providers such as telematics, poison control, medical alert, central alarm monitoring, relay services, and N9-1-1 services.

In order to collect information needed to develop and implement effective strategies for the National 9-1-1 Program to provide leadership, coordination, guidance and direction to the enhancement of the Nation's 9-1-1 services, NHTSA must utilize efficient and effective means of eliciting the input and opinions of its constituency groups. If approved, the proposed annual RFIs would assist the National 9-1-1 Program in addressing the myriad of issues posed by implementing new technologies in 9-1-1 services in a systematic, prioritized fashion, with active involvement of its constituency in this process. The results of the proposed annual RFIs would be used to:

(1) Identify areas to target programs and activities to achieve the greatest benefit;

(2) Develop programs and initiatives aimed at cooperative efforts to enhance 9-1-1 services nationwide; and

(3) to provide informational support to States, regions, and localities in their own efforts to enhance 9-1-1 services.

Description of the Likely Respondents (Including Estimated Number, and Proposed Frequency of Response to the Collection of Information): Under this proposed effort, the National 9-1-1 Program would issue annual RFIs, seeking responses to specific questions and soliciting comments on the priorities and strategies used by the National 9-1-1 Program to accomplish its functions, goals and vision, and to obtain expressions of interest in participating as partners. The various entities included in the constituency of the National 9-1-1 Program would be notified of the issuance of each RFI. Likely respondents would include companies, agencies and organizations from all of the constituency groups listed above, particularly local and State emergency communications agencies, professional and industry associations, “traditional” telecommunication service providers, “public safety/emergency” service providers and special interest advocacy organizations. The total number of respondents is estimated at 30 to 40.

Estimate of the Total Annual Reporting and Recordkeeping Burden Resulting From the Collection of Information: NHTSA estimates that responses to the questions included in the proposed RFIs would require an average of one hour to complete, for a total of 40 to 50 hours. The respondents would not incur any reporting costs from the information collection. The respondents also would not incur any recordkeeping burden or recordkeeping costs from the information collection.

Authority: 44 U.S.C. 3506(c)(2)(A); 47 U.S.C. 942.

Issued on April 19, 2010.
Jeffrey P. Michael,
Associate Administrator for Research and Program Development.

[FR Doc. 2010-9379 Filed 4-22-10; 8:45 am]

BILLING CODE 4910-59-P